ENVIRONMENTAL PROTECTION AGENCY

40 CFR Part 300

[EPA-HQ-SFUND-1986-0005; FRL-9989-47—Region 9]

National Oil and Hazardous Substances Pollution Contingency Plan; National Priorities List: Partial Deletion of the Beckman Instruments Superfund Site

AGENCY: Environmental Protection Agency (EPA).

ACTION: Proposed rule; notice of intent.

SUMMARY: The Environmental Protection Agency (EPA) Region 9 is issuing a Notice of Intent to Delete the soil portion of the Beckman Instruments Superfund Site (Site) located in Porterville, California, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). EPA and the State of California, through the Department of Toxic Substances Control (DTSC), have determined that all appropriate soil response actions under CERCLA have been completed. However, this deletion does not preclude future actions under Superfund.

This partial deletion pertains to the soil; a map indicating the area to be deleted is in the public docket. The groundwater will remain on the NPL and is not being considered for deletion as part of this action. Maintenance, monitoring, and five-year reviews of the groundwater remedy will continue until all drinking water standards have been met.

DATES: Comments must be received by March 18, 2019.

ADDRESSES: Submit your comments, identified by Docket ID no. EPA-HQ-SFUND-1986-0005, by one of the following methods:

• https://www.regulations.gov. Follow the online instructions for submitting comments. Once submitted, comments cannot be edited or removed from Regulations.gov. EPA may publish any comment received to its public docket. Do not submit electronically any information you consider to be Confidential Business Information or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit https://www2.epa.gov/dockets/commenting-epa-dockets.

• Email: Project Manager: Hadlock.holly@epa.gov or Community Involvement Coordinator: Lane.jackie@epa.gov.

• Mail: Holly Hadlock (SFD-7-3), U.S. EPA, 75 Hawthorne Street, San Francisco, CA 94105.

• Hand delivery: Superfund Records Center, U.S. EPA, 75 Hawthorne Street, San Francisco, California. Such deliveries are accepted only during EPA's normal hours of operation, and special arrangements should be made for deliveries of boxed information.

Instructions: Direct your comments to Docket ID no. EPA-HQ-SFUND-1986-0005. EPA's policy is that all comments received will be included in the public docket without change and may be made available online at https://www.regulations.gov, including any personal information provided, unless the comment includes information claimed to be Confidential Business Information (CBI) or other information whose disclosure is restricted by statute. Do not submit information that you consider to be CBI or otherwise protected through https://www.regulations.gov or email. The https://www.regulations.gov website is an “anonymous access” system, which means EPA will not know your identity or contact information unless you provide it in the body of your comment. If you send an email comment directly to EPA without going through https://www.regulations.gov, your email address will automatically be captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the https://www.regulations.gov index. Although listed in the index, some information is not publicly available, e.g., CBI or other information whose disclosure is restricted by statute. Certain other material, such as copyrighted material, will be publicly available only in the hard copy. Publicly available docket materials are available either electronically in https://www.regulations.gov or in hard copy at the following repositories:

Superfund Records Center, 75 Hawthorne Street, Room 3110, San Francisco, California, Hours: 8:00 a.m. to 4:00 p.m., Monday through Friday, excluding federal holidays; (415) 947-8717.

Site Repository: 41 W Thurman Avenue, Porterville, California. Call (559) 784-0177 for hours of operation.

FOR FURTHER INFORMATION CONTACT: Holly Hadlock, Remedial Project Manager, U.S. EPA, Region 9 (SFD-7-3), 75 Hawthorne Street, San Francisco, CA 94105, (415) 972-3171, email: hadlock.holly@epa.gov.

SUPPLEMENTARY INFORMATION:

Table of Contents

I. Introduction

II. NPL Deletion Criteria

III. Deletion Procedures

IV. Basis for Intended Partial Site Deletion

I. Introduction

EPA Region 9 announces its intent to delete the soil portion of the Beckman Instruments Superfund Site from the NPL and requests public comment on this proposed action. The NPL constitutes Appendix B of 40 CFR part 300, which is the National Oil and Hazardous Substances Pollution Contingency Plan (NCP), which EPA promulgated pursuant to section 105 of the Comprehensive Environmental Response, Compensation and Liability Act (CERCLA) of 1980, as amended. EPA maintains the NPL in order to identify sites that appear to present a significant risk to public health, welfare, or the environment. Sites on the NPL are eligible for remedial actions financed by the Hazardous Substance Superfund (Fund). This partial deletion of the Beckman Instruments Site is proposed in accordance with 40 CFR 300.425(e) and is consistent with the Notice of Policy Change: Partial Deletion of Sites Listed on the National Priorities List. 60 FR 55466 (Nov. 1, 1995). As described in section 300.425(e)(3) of the NCP, a portion of a site deleted from the NPL remains eligible for Fund-financed remedial action if future conditions warrant such actions.

EPA will accept comments on the proposal to partially delete the Site for thirty (30) days after publication of this document in the Federal Register.

Section II of this document explains the criteria for deleting sites from the NPL. Section III discusses procedures that EPA is using for this action. Section IV discusses the soil of the Beckman Instruments Superfund Site and demonstrates how it meets the deletion criteria.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. At the Beckman Instruments Site, contaminants in soil have been cleaned up to levels that allow for unlimited use and unrestricted exposure, and therefore no five-year reviews for the portion of the Site proposed to be deleted are necessary. EPA may initiate further action to ensure continued protectiveness at a deleted site if new information becomes available that indicates it is appropriate. Whenever there is a significant release from a site deleted from the NPL, the deleted site may be restored to the NPL without application of the hazard ranking system.

III. Deletion Procedures

The following procedures apply to deletion of the soil portion of the Site:

(1) EPA consulted with the State before developing this Notice of Intent for Partial Deletion.

(2) EPA has provided the State 30 working days for review of this notice prior to publication of it today.

(3) In accordance with the criteria discussed above, EPA has determined that no further response is appropriate.

(4) The State of California, through DTSC, has concurred with the deletion of the soil portion of the Beckman Instruments Superfund Site from the NPL.

(5) Concurrently, with the publication of this Notice of Intent for Partial Deletion in the Federal Register, a notice is being published in a major local newspaper, the Porterville Recorder. The notice announces the 30-day public comment period concerning the Notice of Intent for Partial Deletion of the Site from the NPL.

(6) EPA placed copies of documents supporting the proposed partial deletion in the deletion docket and made these items available for public inspection and copying at the Site information repositories identified above.

If comments are received within the 30-day comment period on this document, EPA will evaluate and respond accordingly to the comments before making a final decision to delete the soil portion of the site. If necessary, EPA will prepare a Responsiveness Summary to address any significant public comments received. After the public comment period, if EPA determines it is still appropriate to delete the soil portion of the Beckman Instruments Superfund Site, the Regional Administrator will publish a final Notice of Partial Deletion in the Federal Register. Public notices, public submissions and copies of the Responsiveness Summary, if prepared, will be made available to interested parties and included in the site information repositories listed above.

Deletion of a portion of a site from the NPL does not itself create, alter, or revoke any individual's rights or obligations. Deletion of a portion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Partial Site Deletion

The following information provides EPA's rationale for deleting the soil portion of the Beckman Instruments Superfund Site from the NPL.

Site Background and History

The Site (CERCLIS ID # CAD048645444), which includes the Beckman industrial plant and the surrounding study area, is located near the southern limit of the City of Porterville, California. Porterville is in Tulare County on the eastern edge of California's San Joaquin Valley. Site contamination originated at the plant, physically located at 167 West Poplar Avenue in Porterville. The plant occupies approximately 12 acres, while the overall Site is approximately 160 acres in size and extends to the Tule River to the north, plant property limits to the east, Poplar Ditch to the south, and Newcomb Street to the west. Beckman Instruments, now operating as Beckman Coulter, Inc. (BCI), started manufacturing electronic equipment assemblies and printed circuit boards in Porterville in 1967. Industrial processes used at the plant included electroplating and degreasing. Past processes and materials handling at the Beckman plant were responsible for lead contamination in soils at the Beckman plant. From 1975 until early 1983, waste discharged to an on-site evaporation pond resulted in groundwater becoming contaminated with volatile organic compounds (VOCs), primarily 1,1-dichloroethene. This contaminated groundwater migrated beyond the boundaries of the plant property. On October 15, 1984, the Site was proposed for NPL listing (49 FR 40320). On June 10, 1986, EPA added the Site to the NPL (51 FR 21054). There is one site-wide Operable Unit which includes both groundwater and soil. The soil is being addressed in this proposed action. A map of the proposed deletion area is in the docket.

Ongoing Development

The plant property is zoned for industrial and agricultural use. Land use in the surrounding area is residential, commercial, and agricultural. Since the 1990s, plant activities have scaled back. The Beckman plant is now owned and operated by Nypro, a Jabil Company.

1989 Investigation and Remedy for Soils

EPA completed a remedial investigation and feasibility study in 1989 and concluded that the only contaminant of concern in soil was lead in the operational area. EPA evaluated three soil remedial action alternatives in the Record of Decision (ROD): No action (S-1); excavation and disposal (S-3); and extraction, treatment, and disposal (S-4). Alternative S-1 was deemed not protective of human health and the environment and Alternative S-4 was deemed not cost-effective. EPA selected Alternative S-3, excavation and off-site disposal at an approved facility, for the soil remedy in the September 26, 1989, ROD. A cleanup level of 200 milligram per kilogram (mg/kg) lead was selected based on human health risk modeling. The remedial action objective was to prevent direct contact with, and inhalation of, lead-contaminated soil. EPA determined that this remedial action would allow for unrestricted access and use of the plant property. EPA also selected a cleanup remedy for groundwater; the remedy for VOCs in groundwater was extraction, treatment, and discharge of cleaned water. EPA issued a ROD Amendment in 2005 changing the groundwater remedy to monitored natural attenuation.

Soil Response Actions and Cleanup Levels

In March 1990 Beckman conducted the soil remedial action, excavating approximately 18 cubic feet of lead-contaminated soil, which was transported to Kettleman Hills Landfill, a CERCLA-approved facility in Kettleman City, California.

In 2013, EPA issued the Fourth Five-Year Review Report which assessed the protectiveness of the remedy. In this report EPA noted that in 2009 the California residential lead screening level (SL) was revised to 80 mg/kg, based on 1 µg/deciliter benchmark for source-specific incremental change in blood lead levels for children. EPA determined that the 1990 soil cleanup was protective for commercial/industrial use of the property but not residential use. Based on the finding in the Fourth Five-Year Review Report, EPA asked BCI to re-evaluate the post-excavation lead concentrations and determine if the new residential lead screening level of 80 mg/kg had been attained during the 1990 soil excavation.

From 2015 to 2017, BCI, with EPA oversight, conducted several investigations and excavations. Soil samples were collected from the 1990 excavation area and several samples had lead above 80 mg/kg. In 2017 BCI did a more thorough investigation and by October 2017 had excavated approximately 270 additional cubic yards of soil, which were transported to Kettleman Hills Landfill. Confirmation sampling and analysis indicated that 50 samples were below the California residential screening level of 80 mg/kg and four samples were just above this concentration. The average concentration of the remaining soil is well below 80 mg/kg; a statistical analysis for the remaining soil calculated a conservative estimate of a mean concentration of 24 mg/kg. EPA determined that the Site soil had been cleaned to a level that allows for unlimited use and unrestricted exposure.

Monitoring and Institutional Controls

Because the soil is now clean enough to allow for any future use, no maintenance and monitoring of the soils remedy is required and no institutional controls are needed to restrict future property use.

2018 Five-Year Review

EPA conducts reviews every five years to determine if remedies are functioning as intended and if they continue to be protective of human health and the environment. EPA issued the Fifth Five-Year Review Report on August 23, 2018, and concluded that the soil remediation is complete and the remedy at the Beckman Instruments Site is protective of human health and the environment. There were no issues or recommendations. The next five-year review, scheduled for 2023, will evaluate the groundwater remedy only.

Community Involvement

EPA prepared a Community Involvement Plan in 1987 and updated it in 1994.

EPA held numerous community meetings before and during the Site cleanup and issued fact sheets, most of which focused on groundwater. EPA released two Proposed Plans, one for the ROD and one for the ROD Amendment. EPA released a fact sheet shortly before publication of this Notice informing the community of the proposal to delete the soil portion of the Site from the NPL and how to submit comments.

Determination That the Criteria for Deletion Have Been Met

EPA has followed all procedures required by 40 CFR 300.425(e), Deletion from the NPL. EPA consulted with the State of California prior to developing this Notice. EPA determined that the responsible party has implemented all appropriate response actions required and that no further response action for the soil portion of the Site is appropriate. EPA is publishing a notice in a major local newspaper, The Porterville Recorder, of its intent to partially delete the Site and how to submit comments. EPA placed copies of documents supporting the proposed partial deletion in the Site information repositories; these documents are available for public inspection and copying.

The implemented soil remedy achieved the degree of cleanup and protection specified in the ROD for the soil portion of the Site. The selected remedial action objectives and associated cleanup levels for the soil are consistent with agency policy and guidance. Based on information currently available to EPA, no further Superfund response in the area proposed for deletion is needed to protect human health and the environment.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(d); 42 U.S.C. 9601-9657; E.O. 13626, 77 FR 56749, 3 CFR, 2013 Comp., p.306; E.O. 12777, 56 FR 54757, 3 CFR, 1991 Comp., p.351; E.O. 12580, 52 FR 2923, 3 CFR, 1987 Comp., p. 193.

Dated: January 22, 2019.
Michael B. Stoker,
Regional Administrator, Region 9.

[FR Doc. 2019-02348 Filed 2-13-19; 8:45 am]

BILLING CODE 6560-50-P